DEPARTMENT OF HEALTH AND HUMAN SERVICES

National Action Plan To Assure the Appropriate Use of Therapeutic Agents in the Elderly: Notice of Opportunity for Public Comment

AGENCY: Department of Health and Human Services, Office of the Secretary, Office of Public Health and Science, Office of Disease Prevention and Health Promotion.

ACTION: Notice.

SUMMARY: The Department of Health and Human Services (DHHS) solicits written comments on the key elements of a national action plan to assure the appropriate use of therapeutic agents in the elderly.

DATES: Written comments may be submitted on or before 5:00 p.m. E.S.T. on May 22, 2002.

ADDRESSES: Written comments should be sent to Debra C. Nichols, M.D., M.P.H., DHHS Office of Disease Prevention and Health Promotion, Office of Public Health and Science, room 738-G, 200 Independence Ave., SW., Washington, DC 20201, (202) 205-4872 (telephone), 202-205-9478 (facsimile). Comments also may be submitted electronically to dnichols@osophs.dhhs.gov.

FOR FURTHER INFORMATION CONTACT: Debra Nichols, M.D., M.P.H. DHHS Office of Disease Prevention and Health Promotion, Office of Public Health and Science, room 738-G, 200 Independence Ave., SW., Washington, DC 20201, (202) 205-4872.

SUPPLEMENTARY INFORMATION:

Background

The Elderly are at increased risk of complications from the effects of therapeutic agents. These risks are caused by the use of multiple, concurrent medications, the use of inappropriate medication and the underuse of needed medication.

Management of this problem will require the coordinated efforts of both federal and private sectors. Provider behavior must be modified through education, the use of monitoring systems and patient and caregiver empowerment. The most important strategies that the nation can use to fight this problem must be identified.

Written Comments

In preparation for the development of a national action plan to assure the appropriate use of therapeutic agents in the elderly in the United States, comments are welcome from all interested stakeholders.

Comments will be most useful if they include the following information:

(1) What you consider to be the three to five most important priorities for assuring the appropriate use of therapeutic agents in the elderly in the United States.

(2) How, as a nation, we should pursue these strategies.

(3) Your views on the most effective ways to address disparities among different segments of the population.

(4) (If applicable) A short summary of activities that your organization is engaged in or plans to engage in to assure the appropriate use of therapeutic agents in the elderly. Submitted information may become part of a publicly accessible website information center, or be otherwise made available.

Dated: April 9, 2002.
Eve E. Slater,
Assistant Secretary for Health.

[FR Doc. 02-9048 Filed 4-12-02; 8:45 am]

BILLING CODE 4150-32-M